DEPARTMENT OF THE INTERIOR

National Park Service

[NPS-WASO-NAGPRA-NPS0027785; PPWOCRADN0-PCU00RP14.R50000]

Notice of Inventory Completion: Robert S. Peabody Institute of Archaeology, Andover, MA

AGENCY: National Park Service, Interior.

ACTION: Notice.

SUMMARY: The Robert S. Peabody Institute of Archaeology has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by June 14, 2019.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Institute of Archaeology, Andover MA. The human remains and associated funerary objects were removed from the Chequesset Inn-Taylor Hill site (19BN106), Wellfleet, Barnstable County, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

An invitation to consult was extended to the Mashpee Wampanoag Tribe (previously listed as the Mashpee Wampanoag Indian Tribal Council, Inc.) and the Wampanoag Tribe of Gay Head (Aquinnah), hereafter referred to as “The Invited Tribes.” The Assonet Band of the Wampanoag Nation, a non-federally recognized Indian group, was also invited, but chose not to participate.

The Invited Tribes either did not consult or engaged in limited communication. Determinations of cultural affiliation are based on prior and extensive consultation with these Indian Tribes and groups for other human remains and associated funerary objects from the same site and vicinity.

History and Description of the Remains

At an unknown date early in the twentieth century, human remains representing, at minimum, one individual were removed from the Chequesset Inn-Taylor Hill site (19-BN-106) in Barnstable County, MA. Research by archeologist James W. Bradley (2008) indicates that avocational archeologist Howard Torrey removed human remains from the Chequesset Inn-Taylor Hill site, and gave some of these human remains to avocational archeologist Fred Luce in 1915. During an inventory project in 2018, staff members of the Robert S. Peabody Institute of Archaeology located 6 boxes of objects from Cape Cod area sites that had been amassed by Fred Luce in the early twentieth century. Examination by physical anthropologist Harley Erickson found that the human remains consist of two heavily eroded human bone fragments—a distal end of a metatarsal and a medial hand phalanx. Both are from an adult of indeterminate sex and age. No known individuals were identified. The 56 associated funerary objects are six modified animal bone fragments; 22 ceramic fragments, some decorated (including small bag of ceramic dust and debris); and 28 small, unmodified shells. (Three other individuals and eight associated funerary objects from Taylor Hill and excavated by Howard Torrey and archeologist Ripley R. Bullen in 1946 and 1949 were listed by the Robert S. Peabody Institute of Archaeology in a Notice of Inventory Completion published in 2005, and have already been repatriated.)

The Chequesset Inn-Taylor Hill site is reported in archeologist James W. Bradley's 2008 article “Taylor Hill: A Middle Woodland Mortuary Site in Wellfleet, MA,” in the Bulletin of the Massachusetts Archaeological Society. The site dates to the late Middle Woodland era (circa 1100 to 1300 years B.P.), and is described by Bradley as a “concentration of late Middle Woodland habitation and mortuary sites located at the head of Wellfleet Harbor on Cape Cod.” These sites lie within the historically documented territory of the Wampanoag. In his 1928 monograph, “Territorial Subdivisions and Boundaries of the Wampanoag, Massachusett, and Nauset Indians,” (Indian Notes and Monographs No. 44, 1928) Frank Speck places the area around Wellfleet within the traditional territory of the Wampanoag. Linguistically, this area is within the so-called n-dialect shared by Massachusett, Wampanoag, and Pokanoket speakers (see map and discussion in Kathleen J. Bragdon's 2009 book Native Peoples of Southern New England, 1650-1775, pages 22-23). Sociopolitical and economic patterns in the coastal area of Rhode Island and Massachusetts were established by the late Woodland period circa A.D. 1000, and the coastal groups in this area are likely the ancestors of the Wampanoag people encountered by the English in the seventeenth century. Archeology, ethno-history, linguistics, and oral history provide multiple lines of evidence that demonstrate longstanding ties between the Wampanoag and the area around the Chequesset Inn-Taylor Hill site and affirm affiliation with the burial at the site.

Determinations Made by the Robert S. Peabody Institute of Archaeology

Officials of the Robert S. Peabody Institute of Archaeology have determined that:

• Pursuant to 25 U.S.C. 3001(9), the human remains described in this notice represent the physical remains of one individual of Native American ancestry.

• Pursuant to 25 U.S.C. 3001(3)(A), the 56 objects described in this notice are reasonably believed to have been placed with or near individual human remains at the time of death or later as part of the death rite or ceremony.

• Pursuant to 25 U.S.C. 3001(2), there is a relationship of shared group identity that can be reasonably traced between the Native American human remains and associated funerary objects and The Invited Tribes.

Additional Requestors and Disposition

Lineal descendants or representatives of any Indian Tribe or Native Hawaiian organization not identified in this notice that wish to request transfer of control of these human remains and associated funerary objects should submit a written request with information in support of the request to Ryan Wheeler, Robert S. Peabody Institute of Archaeology, Phillips Academy, 180 Main Street, Andover, MA 01810, telephone (978) 749-4490, email rwheeler@andover.edu, by June 14, 2019. After that date, if no additional requestors have come forward, transfer of control of the human remains and associated funerary objects to The Invited Tribes may proceed.

The Robert S. Peabody Institute of Archaeology is responsible for notifying The Invited Tribes and the Assonet Band of the Wampanoag Nation, a non-federally recognized Indian group, that this notice has been published.

Dated: April 25, 2019.
Melanie O'Brien,
Manager, National NAGPRA Program.

[FR Doc. 2019-09993 Filed 5-14-19; 8:45 am]

BILLING CODE 4312-52-P